DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention (CSAP) Drug Testing Advisory Board (DTAB) will convene via web conference on March 9, 2022, from 10:00 a.m. ET to 1:00 p.m. ET.

The board will meet in open-session on March 9, 2022, from 10:00 a.m. ET to 1:00 p.m. ET, to discuss the Mandatory Guidelines for Federal Workplace Drug Testing Programs with updates from the Department of Transportation, the Nuclear Regulatory Commission and the Food and Drug Administration. Other discussion topics include a presentation on the Drug-Free Workplace Program Summit meeting scheduled for May, 2022, NLCP drug testing results, and synthetic urines and adulteration.

Meeting registration information can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, Lisa S. Davis, M.S.

Committee Name: Substance Abuse and Mental Health Services Administration, Center for Substance Abuse Prevention, Drug Testing Advisory Board.

Dates/Time/Type: March 9, 2022, from 10:00 a.m. to 1:00 p.m.: OPEN.

Place: Substance Abuse and Mental Health Services Administration, 5600 Fishers Lane, Rockville, MD 20857.

Contact: Lisa S. Davis, M.S., Social Science Analyst, Center for Substance Abuse Prevention, 5600 Fishers Lane, Rockville, Maryland 20857, Telephone: (240) 276-1440, Email: Lisa.Davis@samhsa.hhs.gov.

Anastasia Marie Donovan,
Public Health Advisor, Division of Workplace Programs.

[FR Doc. 2022-03616 Filed 2-18-22; 8:45 am]

BILLING CODE 4162-20-P